DEPARTMENT OF TRANSPORTATION

Federal Aviation Administration

Notice of Intent To Rule on Application (05-09-C-00-YKM) To Impose and Use, the Revenue From a Passenger Facility Charge (YKM) at Yakima Air Terminal—McAllister Field, Submitted By the Yakima Air Terminal—McAllister Field Board, Yakima Air Terminal—McAllister Field, Yakima, WA

AGENCY: Federal Aviation Administration (FAA), DOT.

ACTION: Notice of intent to rule on application.

SUMMARY: The FAA proposes to rule and invites public comment on the application to impose and use, PFC revenue at Yakima Air Terminal—McAllister Field under the provisions of 49 U.S.C. 40117 and part 158 of the Federal Aviation Regulations (14 CFR part 158).

DATES: Comments must be received on or before March 21, 2005.

ADDRESSES: Comments on this application may be mailed or delivered in triplicate to the FAA at the following address: Mr. J. Wade Bryant, Manager; Seattle Airports District Office, SEA-ADO; Federal Aviation Administration; 1601 Lind Avenue SW., Suite 250, Renton, Washington 98055-4056.

In addition, one copy of any comments submitted to the FAA must be mailed or delivered to Mr. Jerry Kilpatrick, Assistant Airport Manager, at the following address: 2400 West Washington Avenue, Yakima, WA 98903.

Air Carriers and foreign air carriers may submit copies of written comments previously provided to Yakima Air Terminal—McAllister Field, under section 158.23 of part 158.

FOR FURTHER INFORMATION CONTACT: Ms. Suzanne Lee-Pang, (425) 227-2654, Seattle Airports District Office, SEA-ADO; Federal Aviation Administration; 1601 Lind Avenue SW., Suite 250, Renton, Washington 98055-4056. The application may be reviewed in person at this same location.

SUPPLEMENTARY INFORMATION: The FAA proposes to rule and invites public comment on the application 05-09-C-00-YKM to impose and use, PFC revenue at Yakima Air Terminal—McAllister Field, under the provisions of 49 U.S.C. 40117 and part 158 of the Federal Aviation Regulations (14 CFR part 158).

On February 10, 2005, the FAA determined that the application to impose and use the revenue from a PFC submitted by Yakima Air Terminal—McAllister Field, Yakima, Washington, was substantially complete within the requirements of section 158.25 of part 158. The FAA will approve or disapprove the application, in whole or in part, no later than May 18, 2005.

The following is a brief overview of the application.

Level of the proposed PFC: $3.00.

Proposed charge effective date: March 1, 2005.

Proposed charge expiration date: October 1, 2006.

Total requested for use approval: $198,184.

Brief description of proposed project: Construct West GA//Air Freight Ramp; Purchase Aircraft Rescue and Fire Fighting (ARFF) vechile; Develop Sign and Marking Plan; Develop Wildlife Management Plan; Relocate Runway Hold Position Sign on “C” Taxiway; Pavement Maintenance Program; Obstruction Removal Project.

Class or classes of air carriers which the public agency has requested not be required to collect PFC's: Air taxi/commercial operators who emplane less than 1% of total boardings.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Yakima Air Terminal—McAllister Field.

Issued in Renton, Washington on February 10, 2005.
David A. Field,
Manager, Planning, Programming and Capacity Branch, Northwest Mountain Region.

[FR Doc. 05-3114 Filed 2-17-05; 8:45 am]

BILLING CODE 4910-13-M